ENVIRONMENTAL PROTECTION AGENCY

[FRL-8756-1]

Notice of Availability of Preliminary Residual Designation of Certain Stormwater Discharges in the State of Massachusetts Under the National Pollutant Discharge Elimination System of the Clean Water Act

AGENCY: Environmental Protection Agency.

ACTION: Notice and Request for Public Comment.

SUMMARY: The Regional Administrator of the Environmental Protection Agency's (EPA) New England Regional Office is providing notice of the availability of a preliminary determination that certain stormwater discharges in the Charles River watershed located in Bellingham, Milford, and Franklin, Massachusetts will be required to obtain permit coverage under the National Pollutant Discharge Elimination System (NPDES) of the Clean Water Act. EPA is seeking public comment on the nature and scope of this preliminary residual designation. The period for comment on this preliminary residual designation will remain open until the close of the public comment period on any NPDES general or individual permit related to this preliminary residual designation. However, EPA strongly encourages interested parties to submit their comments within 45 days of the commencement of the comment period, after which EPA intends to review this preliminary residual designation and to decide whether to make any changes to it. It is EPA's intention to make a final residual designation following the close of the comment period on any associated NPDES permit. Copies of the preliminary residual designation are available for inspection online and in hardcopy as described elsewhere in this document.

DATES: Comments must be submitted on or before February 6, 2009.

ADDRESSES: Submit your comments, identified by Docket ID No. EPA-R01-OW-2008-0857 by one of the following methods:

• http://www.regulations.gov: Follow the on-line instructions for submitting comments.

• E-mail: beck.erik@epa.gov.

• Mail and hand delivery: U.S. Environmental Protection Agency, New England Region, One Congress Street, Suite 1100, Mailcode CWN, Boston, MA 02114-2023. Deliveries are only accepted during the Regional Office's normal hours of operation (8 a.m. to 5 p.m., Monday through Friday, excluding legal holidays), and special arrangements should be made for deliveries of boxed information.

Instructions: Direct your comments to Docket ID No. EPA-R01-OW-2008-0857. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the U.S. Environmental Protection Agency, New England Region, One Congress Street, Suite 1100, Boston, Massachusetts. Such deliveries are only accepted during the Regional Office's normal hours of operation, and special arrangements should be made for deliveries of boxed information. To inspect the hard copy materials, please schedule an appointment during normal business hours with the contact listed in the FOR FURTHER INFORMATION CONTACT section.

FOR FURTHER INFORMATION CONTACT: Erik Beck, EPA New England Region, One Congress Street, Suite 1100, Mailcode CWN, (617) 918-1606, beck.erik@epa.gov.

SUPPLEMENTARY INFORMATION: The Regional Administrator of EPA's New England Regional Office is providing notice of availability of a preliminary determination that certain stormwater discharges in the Charles River watershed located in Bellingham, Milford, and Franklin, Massachusetts will be required to obtain NPDES permits. Under Clean Water Act (CWA) Section 402(p) (33 U.S.C. 1342(p)), Congress required the EPA to establish permitting requirements for certain stormwater discharges. In addition, CWA Sections 402(p)(2)(E) and 402(p)(6) and implementing regulations at 40 CFR 122.26 (a)(9)(i)(C) and (D) provide that the EPA Regional Administrator may designate additional stormwater discharges as requiring NPDES permits where he determines that:

1. Stormwater controls are needed for the discharge based on wasteload allocations that are part of “total maximum daily loads” that address the pollutant of concern (in this case phosphorus), or

2. The discharge, or category of discharges within a geographic area, contributes to a violation of a water quality standard or is a significant contributor of pollutants to waters of the United States.

The EPA Regional Administrator for the New England Region has made a preliminary determination pursuant to Section 402(p) of the Clean Water Act and 40 CFR 122.26 (9)(i)(C) and (D) that stormwater controls and NPDES permits are needed for discharges to waters of the United States from impervious surfaces equal to or greater than two acres, with certain exceptions, in the Charles River watershed located in Bellingham, Milford, and Franklin, Massachusetts. Details on these exceptions, as well as other details of the preliminary determination, are available in the preliminary residual designation document. This document and ancillary materials may be viewed on the EPA New England Regional Office's Web page pertaining to excessive nutrients in the Charles River, http://www.epa.gov/region1/charles/tmdl.html and at http://www.regulations.gov.

Dated: December 12, 2008.
Robert W. Varney,
Regional Administrator, EPA New England.

[FR Doc. E8-30540 Filed 12-22-08; 8:45 am]

BILLING CODE 6560-50-P